DEPARTMENT OF TRANSPORTATION

Federal Railroad Administration

Notice of Application for Approval of Discontinuance or Modification of a Railroad Signal System or Relief From the Requirements of Regulations

Pursuant to Title 49 Code of Federal Regulations (CFR) Part 235 and 49 U.S.C. 20502(a), the following railroad has petitioned the Federal Railroad Administration (FRA) seeking approval for the discontinuance or modification of the signal system or relief from the requirements of 49 CFR Part 236 as detailed below.

[Docket Number FRA-2008-0079]

Applicant: Portland and Western Railroad, Inc., Mr. Paul A. Zalec, Vice President Passenger Operations, 650 Hawthorne Avenue, SE., Suite 220, Salem, Oregon 97301.

The Portland and Western Railroad, Inc. (PWRR) seeks relief from the requirements of the Rules, Standards, and Instructions, Title 49 CFR Part 236, section 236.310, Signal Governing Approach to Home Signal, for its planned Wilsonville to Beaverton commuter rail project, to the extent that PWRR be permitted to utilize a cab signal in place of a roadway approach signal. The location of the request is from Wilsonville, Oregon, on the former Oregon Electric Railway, Oregon Electric Subdivision milepost 42.8 to Beaverton, Oregon, Tillamook District, milepost 755.50, a distance of approximately 15.3 route miles.

Applicant's justification for relief: It is proposed that the visibility of cab signals is superior to that of roadway signals and that cab signals also permit automatic enforcement of speed limits and govern the proper approach to the home signal.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

Any interested party desiring to protest the granting of an application shall set forth specifically the grounds upon which the protest is made, and it shall contain a concise statement of the interest of the party in the proceeding. Additionally, one copy of the protest shall be furnished to the applicant at the address listed above.

All communications concerning these proceedings should be identified by Docket Number FRA-2008-0079 and may be submitted by any of the following methods:

• Web site: http://www.regulations.gov. Follow the online instructions for submitting comments.

• Fax: 202-493-2251.

• Mail: Docket Operations Facility, U.S. Department of Transportation,1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on July 23, 2008.
Grady C. Cothen, Jr.,
Deputy Associate Administrator for Safety Standards and Program Development.

[FR Doc. E8-17294 Filed 7-28-08; 8:45 am]

BILLING CODE 4910-06-P